DEPARTMENT OF HEALTH AND HUMAN SERVICES

[Document Identifier OS-0990-0479]

Agency Information Collection Request; 30-Day Public Comment Request

AGENCY: Office of the Secretary, Health and Human Service, HHS.

ACTION: Notice.

SUMMARY: In compliance with the requirement of the Paperwork Reduction Act of 1995, the Office of the Secretary (OS), Department of Health and Human Services, is publishing the following summary of a proposed collection for public comment.

DATES: Comments on the ICR must be received on or before January 24, 2022.

ADDRESSES: Submit your comments to OIRA_submission@omb.eop.gov or via facsimile to (202) 395-5806.

FOR FURTHER INFORMATION CONTACT: Sherrette Funn, Sherrette.Funn@hhs.gov or (202) 795-7714. When requesting information, please include the document identifier 0990-0479-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Family Planning Annual Report 2.0.

Type of Collection: Revision.

OMB No. 0990-0479.

Abstract: The Office of Population Affairs (OPA), within the Office of the Assistant Secretary for Health, seeks approval for a revision of the 3-year encounter level data collection for the Family Planning Annual Report (FPAR). This annual reporting requirement is for competitively awarded grants authorized and funded by the Title X Family Planning Program. Currently approved under 0990-0479, this revision is adding the collection of two new data elements, sexual orientation and gender identity. OPA does not expect the addition of these elements to substantially change the burden.

Type of respondent | Number of respondents | Number responses per respondent | Average burden per response (in hours) | Total burden hours
Grantees | 70 | 1 | 102 | 7140
Total | 70 | 1 | 102 | 7140

Sherrette A. Funn,
Paperwork Reduction Act Reports Clearance Officer, Office of the Secretary.

[FR Doc. 2021-27829 Filed 12-22-21; 8:45 am]

BILLING CODE 4150-34-P